SMALL BUSINESS ADMINISTRATION

Announcement of Funding Pool Size for the Growth Accelerator Fund Competition

AGENCY: U.S. Small Business Administration.

ACTION: Notice.

SUMMARY: On May 4, 2016, the U.S. Small Business Administration (SBA) published a notice in the Federal Register (81 FR 26861) to announce the 2016 Growth Accelerator Fund Competition, pursuant to the America Competes Act (15 U.S.C. 3719), to identify the nation's most innovative accelerators and similar organizations and award them cash prizes they may use to fund their operations costs and allow them to bring startup companies to scale and new ideas to life, including providing assistance to small businesses submitting proposals through the Small Business Innovation Research and/or Small Business Technology Transfer Programs (SBIR/STTR). On August 2, 2016, SBA updated the original notice to announce a total funding pool size of $3.4 million, which included funds from partnering agencies, the National Institutes of Health (NIH), the National Science Foundation (NSF), and the Department of Education (DoED). This notice serves as an update to the original notice, as amended, for an increase of $850,000 in SBA appropriated funds to award $50,000 prizes for up to 17 additional accelerators under the 2016 Growth Accelerator Fund Competition. Additional winners will be notified by no later than September 30, 2016. All rules and requirements outlined in the May 4, 2016, Federal Register notice, as amended, remain in effect.

Authority: Pub. L. 111-358 (2011).

Dated: September 22, 2016.
Mark Walsh,
Associate Administrator, Office of Investment and Innovation.

[FR Doc. 2016-23484 Filed 9-28-16; 8:45 am]

BILLING CODE 8025-01-P